DEPARTMENT OF LABOR

Employment and Training Administration

Trade Adjustment Assistance Program; Designation of Certifying Officers

AGENCY: Employment and Training Administration, Labor.

ACTION: Notice.

SUMMARY: This notice is to designate Certifying Officers to carry out functions under the Trade Adjustment Assistance (TAA) program under chapter 2 of title II of the Trade Act of 1974, as amended (19 U.S.C. 2271 et seq.), and the implementing regulations at 29 CFR part 90.

Background: The TAA program operates under the Trade Act of 1974, as amended, to provide assistance to domestic workers adversely affected in their employment by certain types of foreign trade. Workers become eligible for program benefits only if the worker group is certified under the Act as eligible to apply for adjustment assistance. From time to time the agency issues an Order designating or redesignating officials of the agency authorized to act as Certifying Officers, responsible for reviewing and signing adjustment assistance determinations. This also is done when current Certifying Officials retire or leave and/or when there is a need to designate new Certifying Officials. Employment and Training Order No. 1-15 was issued to revise the listing of officials designated as Certifying Officers, superseding Employment and Training Order No. 1-11 (76 FR 2720, January 14, 2011). The Employment and Training Order No. 1-XX is published below.

FOR FURTHER INFORMATION CONTACT: Norris T. Tyler III, 202-693-3651.

SUPPLEMENTARY INFORMATION:

Employment and Training Order No. 1-15

TO: National and Regional Offices

FROM: Portia WU, Assistant Secretary for Employment and Training

SUBJECT: Trade Adjustment Assistance Program (Trade Act of 1974)—Designation of Certifying Officers

1. Purpose. To designate Certifying Officers to carry out functions under the Trade Adjustment Assistance (TAA) program under chapter 2 of title II of the Trade Act of 1974, as amended (19 U.S.C. 2271 et seq.), and the implementing regulations at 29 CFR part 90.

2. Directive Affected. Employment and Training Order No. 1-11 (76 FR 2720, January 14, 2011), which designated Certifying Officers, is cancelled and superseded.

3. Background. Regulations at 29 CFR part 90 vest persons designated as Certifying Officers with the authority and responsibility to make determinations and redeterminations and to issue certifications of eligibility of groups of workers to apply for adjustment assistance under the TAA program.

4. Designation of Officials. By virtue of my authority under Secretary's Order No. 6-2010, October 20, 2010 (75 FR 66267, October 27, 2010), I designate or redesignate as Certifying Officers for the TAA program:

a. Jessica R. Webster, Program Analyst, Office of Trade Adjustment Assistance

b. Jacquelyn R. Mendelsohn, Program Analyst, Office of Trade Adjustment Assistance

c. Hope D. Kinglock, Program Analyst, Office of Trade Adjustment Assistance

d. DelMin A. Chen, Program Analyst, Office of Trade Adjustment Assistance

e. Norris T. Tyler III, Director, Office of Trade Adjustment Assistance

The foregoing officials are delegated authority and assigned responsibility, subject to the general direction and control of the Assistant Secretary and Deputy Assistant Secretaries of the Employment and Training Administration, and the Administrator of the Office of Trade Adjustment Assistance or the successor office, to carry out the duties and functions of Certifying Officers under 29 CFR part 90 and any succeeding regulations.

5. Effective Date. This order is effective on date of issuance.

This order rescinds ETO 1-11.

This Employment and Training Order No. 1-15 was signed by Portia Wu on 7/7/15.

Dated: Signed the 7th day of July 2015.
Portia Wu,
Assistant Secretary, Employment and Training Administration.

[FR Doc. 2015-17721 Filed 7-17-15; 8:45 am]

BILLING CODE 4510-FN-P